DEPARTMENT OF THE INTERIOR

Fish and Wildlife Service

[FWS-HQ-IA-2013-N055; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 8, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Montana State University, Department of Ecology, Bozeman, MT; PRT-94913A

The applicant requests a permit to collect samples from wild populations of cheetah, (Acinonyx jubatus) and African wild dog (Lycaon pictus), for the purpose of enhancement of the survival of the species/scientific research. This notification covers activities to be conducted by the applicant over a 5-year period.

Applicant: Adam Hunt, Centerville, UT; PRT-97815A

The applicant requests renewal of their captive-bred wildlife registration under 50 CFR 17.21(g) for the radiated tortoise (Astrochelys radiata), to enhance their propagation or survival. This notification covers activities to be conducted by the applicant over a 5-year period.

Applicant: Blue Diablo LLC, Blanco, TX; PRT-97758A

The applicant requests a captive-bred wildlife registration under 50 CFR 17.21(g) for the scimitar-horned oryx (Oryx dammah), addax (Addax nasomaculatus), dama gazelle (Nanger dama), and red lechwe (Kobus leche), to enhance the species' propagation or survival. This notification covers activities to be conducted by the applicant over a 5-year period.

Applicant: Blue Diablo LLC, Blanco, TX; PRT-97746A

The applicant requests a permit authorizing interstate and foreign commerce, export, and cull of excess scimitar-horned oryx (Oryx dammah), from the captive herd maintained at their facility, for the purpose of enhancement of the survival of the species. This notification covers activities to be conducted by the applicant over a 5-year period.

Applicant: North Texas Outfitters, Chico, TX; PRT-97223A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: North Texas Outfitters, Chico, TX; PRT-97677A

The applicant requests a permit authorizing interstate and foreign commerce, export, and cull of excess barasingha (Rucervus duvaucelii), scimitar-horned oryx (Oryx dammah), and addax (Addax nasomaculatus) from the captive herd maintained at their facility, for the purpose of enhancement of the survival of the species. This notification covers activities to be conducted by the applicant over a 5-year period.

Applicant: Rock Head Properties, LLC, Mason, TX; PRT-97898A

The applicant requests a captive-bred wildlife registration under 50 CFR 17.21(g) for the scimitar-horned oryx (Oryx dammah) and addax (Addax nasomaculatus) to enhance the species' propagation or survival. This notification covers activities to be conducted by the applicant over a 5-year period.

Applicant: Rock Head Properties, LLC, Mason, TX; PRT-97899A

The applicant requests a permit authorizing interstate and foreign commerce, export, and cull of excess scimitar-horned oryx (Oryx dammah), and addax (Addax nasomaculatus) from the captive herd maintained at their facility, for the purpose of enhancement of the survival of the species. This notification covers activities to be conducted by the applicant over a 5-year period.

Applicant: Tiger World Inc., Rockwell, NC; PRT-97961A

The applicant requests a captive-bred wildlife registration under 50 CFR 17.21(g) for the ring-tailed lemur (Lemur catta), red ruffed lemur (Varecia rubra), mandrill (Mandrillus sphinx), lar gibbon (Hylobates lar), leopard (Panthera pardus), snow leopard (Uncia uncia), golden parakeet (Guarouba guarouba), Galapagos tortoise (Chelonoidis nigra), and radiated tortoise (Astrochelys radiata), to enhance the species' propagation or survival. This notification covers activities to be conducted by the applicant over a 5-year period.

Applicant: CDUB, Quincy, FL; PRT-93424A

The applicant requests a captive-bred wildlife registration under 50 CFR 17.21(g) for the scimitar-horned oryx (Oryx dammah), addax (Addax nasomaculatus), and dama gazelle (Nanger dama), to enhance the species' propagation or survival. This notification covers activities to be conducted by the applicant over a 5-year period.

Applicant: Parrot Mountain and Gardens, Sevierville, TN; PRT-057232

The applicant requests amendment and renewal of their captive-bred wildlife registration under 50 CFR 17.21(g) for golden parakeet (Guarouba guarouba), Cuban parrot (Amazona leucocephala), and vinaceous parrot (Amazona vinacea) to enhance their propagation or survival. This notification covers activities to be conducted by the applicant over a 5-year period.

Applicant: BAI, Limestone, TN; PRT-189400

The applicant requests renewal of their captive-bred wildlife registration under 50 CFR 17.21(g) for the following families, and species, to enhance their propagation or survival. This notification covers activities to be conducted by the applicant over a 5-year period.

Families:

Bovidae

Lemuridae

Tapiridae

Gruidae

Species:

Grevy's zebra (Equus grevyi)

White-handed gibbon (Hylobates lar)

Radiated tortoise (Astrochelys radiata)

Galapagos tortoise (Chelonoides nigra)

Applicant: Cape Fear Serpentarium, Wilmington, NC; PRT-203395

The applicant requests renewal of their captive-bred wildlife registration under 50 CFR 17.21(g) for the following species, to enhance their propagation or survival. This notification covers activities to be conducted by the applicant over a 5-year period.

Species:

Chinese alligator (Alligator sinensis)

Nile crocodile (Crocodylus niloticus)

Cuban crocodile (Crocodylus rhombifer)

Siamese crocodile (Crocodylus siamensis)

Saltwater crocodile (Crocodylus porosus)

Dwarf crocodile (Osteolaemus tetraspis)

Galapagos tortoise (Chelonoidis nigra)

Radiated tortoise (Astrochelys radiata)

Applicant: Wildlife World Zoo, Inc., Litchfield Park, AZ; PRT-227389

The applicant requests renewal of their captive-bred wildlife registration under 50 CFR 17.21(g) for the following families, and species, to enhance their propagation or survival. This notification covers activities to be conducted by the applicant over a 5-year period.

Families:

Bovidae

Equidae

Hylobatidae

Lemuridae

Cracidae

Gruidae

Species:

Woylie (Bettongia penicillata)

Pygmy slow loris (Nycticebus pygmaeus)

Cottontop tamarin (Saguinus oedipus)

Diana monkey (Cercopithecus diana)

Northern plains grey langur (Semnopithecus entellus)

Mandrill (Mandrillus sphinx)

African wild dog (Lycaon pictus)

Snow leopard (Uncia uncia)

Leopard (Panthera pardus)

Cheetah (Acinonyx jubatus)

South American tapir (Tapirus terrestris)

Malayan tapir (Tapirus indicus)

Babirusa (Babyrousa babyrussa)

Barasingha (Rucervus duvaucelii)

Andean condor (Vultur gryphus)

Golden parakeet (Guarouba guarouba)

Bali starling (Leucopsar rothschildi)

Tartaruga (Podocnemis expansa)

Yellow-spotted river turtle (Podocnemis unifilis)

Galapagos tortoise (Chelonoidis nigra)

Radiated tortoise (Astrochelys radiata)

Chinese alligator (Alligator sinensis)

African dwarf crocodile (Osteolaemus tetraspis)

Nile crocodile (Crocodylus niloticus)

Saltwater crocodile (Crocodylus porosus)

Indian python (Python molurus molurus)

Cuban ground iguana (Cyclura nubila)

Grand Cayman blue iguana (Cyclura lewisi

Applicant: Gladys Porter Zoo, Brownsville, TX; PRT-687643

The applicant requests renewal of their captive-bred wildlife registration under 50 CFR 17.21(g) for the following families, and species, to enhance their propagation or survival. This notification covers activities to be conducted by the applicant over a 5-year period.

Families:

Bovidae

Cebidae

Cercopithecidae

Equidae

Felidae (does not include jaguar, margay or ocelot)

Hominidae

Hylobatidae

Lemuridae

Macropodidae

Gruidae

Psittacidae (does not include thick-billed parrots)

Sturnidae (does not include Aplonis pelzelni)

Alligatoridae

Boidae (does not include Mona or Puerto Rican boa)

Emydidae

Testudinidae

Species:

Asian elephant (Elephas maximus)

African wild dog (Lycaon pictus)

Philippine crocodile (Crocodylus mindorensis)

Cuban crocodile (Crocodylus rhombifer)

Komodo Island monitor (Varanus komodoensis)

Grand Cayman ground iguana (Cyclura nubila lewisi)

Applicant: Omaha's Henry Doorly Zoo, Omaha, NE; PRT-692689

The applicant requests renewal of their captive-bred wildlife registration under 50 CFR 17.21(g) for the following families, and species, to enhance their propagation or survival. This notification covers activities to be conducted by the applicant over a 5-year period.

Families:

Bovidae

Cebidae

Cercopithecidae

Felidae

Gruidae

Hylobatidae

Lemuridae

Hominidae

Tapiridae

Species:

Grevy's zebra (Equus grevyi)

Applicant: Carson Springs Wildlife Foundation, Gainesville, FL; PRT-56870A

The applicant requests amendment of their captive-bred wildlife registration under 50 CFR 17.21(g) to include leopard (Panthera pardus), snow leopard (Uncia uncia), and cheetah (Acinonyx jubatus), to enhance their propagation or survival. This notification covers activities to be conducted by the applicant over a 5-year period.

Applicant: Oregon Zoo, Portland, Oregon; PRT-96624A

The applicant requests a permit for interstate commerce of an Asian elephant (Elephas maximus), to enhance their propagation or survival. This notification covers activities to be conducted by the applicant over a 5-year period.

Applicant: SeaWorld California, San Diego, CA; PRT-011708

The applicant requests renewal of their captive-bred wildlife registration under 50 CFR 17.21(g) for the hooded crane (Grus mocha), to enhance their propagation or survival. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Nicholas White, Ephrata, WA; PRT-93473A

Applicant: Rodney McCallen, Greenwood Village, CO; PRT-96124A

Applicant: Thomas Miranda, Englewood, FL; PRT-93902A

Applicant: Linda Donaho, Houston, TX; PRT-95408A

Brenda Tapia,
Program Analyst/Data Administrator, Branch of Permits, Division of Management Authority.

[FR Doc. 2013-05320 Filed 3-6-13; 8:45 am]

BILLING CODE 4310-55-P